DEPARTMENT OF HOUSING AND URBAN DEVELOPMENT

[Docket No. FR-6003-N-03]

60-Day Notice of Proposed Information Collection: Resident Opportunity and Self-Sufficiency Service Coordinator (ROSS-SC) Program Evaluation

AGENCY: Office of Policy Development and Research, HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: July 17, 2017.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone (202) 402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Resident Opportunity and Self-Sufficiency Service Coordinator (ROSS-SC) Program Evaluation.

OMB Approval Number: Pending.

Type of Request: New.

Form Number: No forms.

Description of the need for the information and proposed use: HUD is conducting this study under contract with the Urban Institute and its subcontractors (EJP Consulting). The project is an evaluation of the Resident Opportunity and Self-Sufficiency Service Coordinator (ROSS-SC) program operated by grantees across the country. It will include a national web-based survey and in-person site visits to select grantees. Since 2008, the ROSS-SC program has provided information and referral for families, elderly, and disabled residents in public housing by funding local Service Coordinators to link residents to resources that they need to become independent and self-sufficient. The purpose of the program is to leverage existing local public and private services to increase income, reduce or eliminate welfare assistance, work towards economic independence and housing self-sufficiency, and improve living conditions and ability to age in-place for elderly and disabled residents. To date, there has been no HUD-funded evaluation of this program. A GAO study across several HUD self-sufficiency programs published in 2013 found that the ROSS-SC program lacked enough quality data on participation and outcomes “to determine whether it was meeting goals of the effective and efficient use of resources” in improving resident self-sufficiency and independence. They recommended improving the data reporting process and developing a strategy for regularly analyzing ROSS-SC participation and outcome data. This project helps implement GAO's recommendations by: (1) Assessing improvements in program processes and reporting since changes were made to the program's logic model in FY 2014; (2) examining the breadth and depth of ROSS-SC program implementation by current service coordinators across all grantee types; and (3) analyzing current reporting requirements and performance metrics to improve future program outcome evaluation. To do so, this study will use a full population survey of current service coordinators funded through ROSS-SC grants made in FY 2013, FY 2014, and FY 2015, and site visits to select grantees.

A web-based survey will allow the study team to investigate important Service Coordinator (SC) program characteristics not included in grant applications or current reporting tools, in order to provide generalizable evidence on the “effective and efficient use of resources” across all ROSS-SC service coordinators. These include SC qualifications and experience, program management structure, resident intake and assessment processes, services offered, partnerships utilized and leveraged, and case management data systems and outcome evaluation tools used to track participant activities and outcomes. Since there is no centralized database of service coordinator contact information, this must first be obtained through a brief online survey sent to each grantee contact person.

Site visits to seven high-performing grantees will include onsite observations and interviews with grantees, service coordinators, and program partners, as well as focus groups with program participants to gather context-specific data on both program processes and outcomes to aid in identifying best practices and common challenges across grantees.

Respondents: For the survey, 330 grantee contact persons and 840 service coordinators (assumes 70% response rate from total estimated population of 1200) at 7 grantee site visit locations, 56 staff and partners, and 107 public housing residents.

Estimated total number of hours needed to prepare the information collection including number of respondents, frequency of response, hours of response, and cost of response time: Based on the below assumptions and tables, we calculate the total burden hours for this study to be 1,248.50 hours and the total cost to be $32,975.18.

Whereas many ROSS-SC grantee contact persons in HUD's database are a PHA Executive Director, PHA Division Director, or the Chief Executive Officer of the grantee, we estimated their cost per response by using the most recent (May 2015) Bureau of Labor Statistics, Occupational Employment Statistics median hourly wage for the labor category, Chief Executives (11-1011): $84.19.

Whereas ROSS-SC service coordinators and other grantee staff and service partners have a range of experience and skills, we averaged the median hourly wage for two labor categories: The Social and Community Service Manager (11-9151) median hourly wage of $30.54, and the Community and Social Service Specialists, All Other (21-1099) category with a rate of $20.14. This produces an average of both median hourly wage rates equal to $25.34.

Respondent | Occupation | SOC Code | Median hourly wage rate | Average (median) hourly wage rate
Grantee Contact Person | Chief Executive | 11-1011 | $84.19 | $84.19
ROSS Service Coordinator & Partners | Social and Community Services Manager | 11-9151 | 30.54 | 25.34
| Community and Social Service Specialist, All Other | 21-1099 | 20.14
Source: Bureau of Labor Statistics, Occupational Employment Statistics (May 2015), https://www.bls.gov/oes/current/oes_stru.htm.

Hourly costs for public housing resident focus group participants were estimated using FY 2016 HUD 30% Income Limit for All Areas calculations from the Office of Policy Development and Research through HUD's Web site located at https://www.huduser.gov/portal/datasets/il/il16/index.html. This identifies income limits by county for extremely low income households earning at or below 30% of their county median income. These limits are adjusted by household sizes of up to eight household members. We averaged the county median values to produce a national average median income by household size for extremely low income households. Based on the ROSS-SC program emphasis on increasing family self-sufficiency, and independent living and aging in place for the elderly and disabled, we estimate that:

• 20% of potential respondents will live alone (21 respondents) with an average median income of $13,537.

• 10% will reside in a 2-person household (11 respondents) with an average median income of $15,464.

• 30% will reside in a 3-person household (32 respondents) with an average median income of $17,396.

• 30% will reside in a 4-person household (32 respondents) with an average median income of $19,305.

• 10% will reside in a 5-person household (11 respondents) with an average median income of $20,872.

To produce a basic hourly rate, we divide the average median annual income amount by 1,950 work hours per year, equaling 5 days at 37.5 hours per week for each of the 52 weeks out of the year.

All assumptions are reflected in the table below.

Information collection | Number of respondents | Frequency of response | Burden hour per response | Annual burden hours | Hourly cost per response ($) | Total cost ($)
ROSS Grantee Contact Person Survey | 330 | 1 | 0.25 | 82.5 | 84.19 | 6,945.68
ROSS Service Coordinators Survey | ¹ 840 | 1 | 1.0 | 840 | 25.34 | 21,285.60
ROSS Site Visit—Staff and Partners | 56 | 1 | 2.0 | 112 | 25.34 | 2,838.08
HUD Residents living alone | 21 | 1 | 2.0 | 42 | 6.94 | 291.48
HUD Residents in 2-person household | 11 | 1 | 2.0 | 22 | 7.93 | 174.46
HUD Residents in 3-person household | 32 | 1 | 2.0 | 64 | 8.92 | 570.88
HUD Residents in 4-person household | 32 | 1 | 2.0 | 64 | 9.90 | 633.60
HUD Residents in 5-person household | 11 | 1 | 2.0 | 22 | 10.70 | 235.40
Total | 1,333 |  |  | 1,248.5 |  | 32,975.18
¹ The full population is estimated at 1,200 service coordinators. The number of respondents is based on anticipated response rate of 70%.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses. HUD encourages interested parties to submit comment in response to these questions.

Authority: Section 3507 of the Paperwork Reduction Act of 1995, 44 U.S.C. chapter 35.

Dated: May 9, 2017.
Matthew E. Ammon,
General Deputy Assistant Secretary for Policy, Development and Research.

[FR Doc. 2017-09866 Filed 5-15-17; 8:45 am]

BILLING CODE 4210-67-P